ENVIRONMENTAL PROTECTION AGENCY

[FRL-9914-39-Region 8]

Proposed Administrative Settlement and Order on Consent for Remedial Investigation/Feasibility Study, Lincoln Park Superfund Site, Canon City, Fremont County, Colorado

AGENCY: Environmental Protection Agency (EPA).

ACTION: Notice; request for public comment.

SUMMARY: Notice is hereby given of the proposed administrative settlement proceeding under sections 104, 107, and 122(h)(1) of the Comprehensive Environmental Response, Compensation, and Liability Act of 1980 (CERCLA), as amended, 42 U.S.C. 9604, 9607, and 9622(h)(1) among the Environmental Protection Agency (EPA), the Colorado Department of Public Health and Environment (CDPHE), the “Agencies,” and the Cotter Corporation (N.S.L.) the (Settling Party). The Cotter Corporation is the owner and operator of the uranium mill on the site since 1957. This settlement agreement applies to and is binding upon the EPA, the CDPHE and the Settling Party.

DATES: Comments must be submitted on or before October 27, 2014.

ADDRESSES: Comments and requests for a copy of the proposed agreement should be addressed to Virginia Phillips, Enforcement Specialist, Environmental Protection Agency-Region 8, Mail Code 8ENF-RC, 1595 Wynkoop Street, Denver, Colorado 80202-2466, or by electronic mail at: Phillips.Virginia@epa.gov and should reference the Lincoln Park Superfund Site, Canon City, Colorado.

Information is also available at the Lincoln Park Site repository in Canon City, located at: The Royal Gorge Regional Museum and History Center; 612 Royal Gorge Boulevard, P.O. Box 1460, Canon City, Colorado 81215, (719) 269-9036. An electronic copy of the proposed AOC is available on the CDPHE Lincoln Park Web page at: http://recycle4colorado.ipower.com/Cotter/2014/14cotterdocs.htm

FOR FURTHER INFORMATION CONTACT: Steven Moores, Enforcement Attorney, Legal Enforcement Program, Environmental Protection Agency-Region 8, Mail Code 8ENF-L, 1595 Wynkoop Street, Denver, Colorado 80202-2466, (303) 312-6857.

SUPPLEMENTARY INFORMATION: The parties enter into this agreement to: (a) Determine the nature and extent of contamination and any threat to the public health, welfare, or environment caused by the release or threatened release of hazardous substances, pollutants, or contaminants at or from the site, by conducting a remedial investigation; (b) identify and evaluate remedial alternatives to prevent, mitigate, or otherwise respond to or remedy any release or threatened release of hazardous substances, pollutants, or contaminants at or from the Site, by conducting a feasibility study (FS); and (c) provide for recovery by the agencies of future response costs for overseeing the work to be conducted under this settlement agreement.

Opportunity for Comment: The proposed agreement, the Agency's response to any comments, and additional background information relating to the agreement are available for public inspection. For sixty (60) days following the date of publication of this notice, the EPA will receive written comments relating to the agreement. The EPA will consider all comments received and may modify or withdraw its consent to the agreement if comments received disclose facts or considerations that indicate that the agreement is inappropriate, improper, or inadequate.

Dated: August 6, 2014.
Suzanne J. Bohan,
Acting Assistant Regional Administrator, Office of Enforcement, Compliance and Environmental Justice.

[FR Doc. 2014-20278 Filed 8-25-14; 8:45 am]

BILLING CODE 6560-50-P